INTERNATIONAL TRADE COMMISSION

[Investigation No. 731-TA-1189 (Final)]

Large Power Transformers From Korea; Revised Schedule for the Subject Investigation

AGENCY: United States International Trade Commission.

ACTION: Notice.

DATES: Effective Date: July 12, 2012.

FOR FURTHER INFORMATION CONTACT: Edward Petronzio (202-205-3176), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS) at http://edis.usitc.gov.

SUPPLEMENTARY INFORMATION: On February 16, 2012, the Commission established a schedule for the conduct of the final phase of the subject investigation (77 FR 16559, March 21, 2012). The Commission is revising its schedule as follows: the Commission will make its final release of information on August 3, 2012; and final party comments are due on August 7, 2012.

For further information concerning this investigation see the Commission's notice cited above and the Commission's Rules of Practice and Procedure, part 201, subparts A through E (19 CFR part 201), and part 207, subparts A and C (19 CFR part 207).

Authority: This investigation is being conducted under authority of title VII of the Tariff Act of 1930; this notice is published pursuant to section 207.21 of the Commission's rules.

By order of the Commission.
Issued: July 12, 2012.
Lisa R. Barton,
Acting Secretary to the Commission.

[FR Doc. 2012-17416 Filed 7-17-12; 8:45 am]

BILLING CODE 7020-02-P